DEPARTMENT OF ENERGY

Federal Energy Regulatory Commission

Combined Notice of Filings #1

Take notice that the Commission received the following electric corporate filings:

Docket Numbers: EC22-57-000.

Applicants: Northern Wind Energy Redevelopment, LLC.

Description: Joint Application for Authorization Under Section 203 of the Federal Power Act of Northern Wind Energy Redevelopment, LLC, et al.

Filed Date: 4/22/22.

Accession Number: 20220422-5296.

Comment Date: 5 p.m. ET 5/13/22.

Docket Numbers: EC22-58-000.

Applicants: Vandolah Power Company, L.L.C.

Description: Application for Authorization Under Section 203 of the Federal Power Act of Vandolah Power Company, L.L.C.

Filed Date: 4/25/22.

Accession Number: 20220425-5191.

Comment Date: 5 p.m. ET 5/16/22.

Take notice that the Commission received the following electric rate filings:

Docket Numbers: ER20-1697-002.

Applicants: Midcontinent Independent System Operator, Inc., AEP Indiana Michigan Transmission Company, Inc.

Description: Compliance filing: Midcontinent Independent System Operator, Inc. submits tariff filing per 35: 2022-04-25_AEP Compliance on Order 864 for ADIT to be effective 1/27/2020.

Filed Date: 4/25/22.

Accession Number: 20220425-5355.

Comment Date: 5 p.m. ET 5/16/22.

Docket Numbers: ER20-1740-002.

Applicants: American Transmission Systems, Incorporated, PJM Interconnection, L.L.C.

Description: Compliance filing: American Transmission Systems, Incorporated submits tariff filing per 35: ATSI submits compliance filing in ER20-1740 revising Att. H-21A and Att. II to be effective 12/1/2020.

Filed Date: 4/25/22.

Accession Number: 20220425-5180.

Comment Date: 5 p.m. ET 5/16/22.

Docket Numbers: ER20-1957-002.

Applicants: Gulf Power Company.

Description: Compliance filing: Supplement to Amended Compliance Filing to be effective 1/27/2020.

Filed Date: 4/25/22.

Accession Number: 20220425-5325.

Comment Date: 5 p.m. ET 5/16/22.

Docket Numbers: ER20-2577-002.

Applicants: Southwest Power Pool, Inc., American Electric Power Service Corporation

Description: Compliance filing: American Electric Power Service Corporation submits tariff filing per 35: Compliance Filing in Response to Order Issued in ER20-2577 (AEP West Transcos) to be effective 1/27/2020.

Filed Date: 4/25/22.

Accession Number: 20220425-5341.

Comment Date: 5 p.m. ET 5/16/22.

Docket Numbers: ER21-1807-004.

Applicants: Hill Top Energy Center LLC.

Description: Compliance filing: Settlement Compliance Filing Under Docket Nos. ER21-1807 and EL21-81 to be effective 7/30/2021.

Filed Date: 4/25/22.

Accession Number: 20220425-5258.

Comment Date: 5 p.m. ET 5/16/22.

Docket Numbers: ER22-109-000.

Applicants: Cheyenne Light, Fuel and Power Company.

Description: Report Filing: Supplemental Information to Jurisdictional Agreement Filing to be effective N/A.

Filed Date: 4/15/22.

Accession Number: 20220415-5167.

Comment Date: 5 p.m. ET 5/6/22.

Docket Numbers: ER22-709-001.

Applicants: Missouri Joint Municipal Electric Utility Commission, Southwest Power Pool, Inc.

Description: Tariff Amendment: Missouri Joint Municipal Electric Utility Commission submits tariff filing per 35.17(b): Deficiency Response—Missouri Joint Municipal Utility Commission Formula Rate to be effective 12/31/9998.

Filed Date: 4/25/22.

Accession Number: 20220425-5198.

Comment Date: 5 p.m. ET 5/16/22.

Docket Numbers: ER22-709-002.

Applicants: Missouri Joint Municipal Electric Utility Commission, Southwest Power Pool, Inc.

Description: Tariff Amendment: Southwest Power Pool, Inc. submits tariff filing per 35.17(b): Supplemental to Deficiency Response of MJMEUC to be effective 12/31/9998.

Filed Date: 4/25/22.

Accession Number: 20220425-5297.

Comment Date: 5 p.m. ET 5/16/22.

Docket Numbers: ER22-1679-000.

Applicants: Google Energy LLC.

Description: § 205(d) Rate Filing: Google Energy Market Based Rate Tariff Revisions to be effective 4/23/2022.

Filed Date: 4/22/22.

Accession Number: 20220422-5258.

Comment Date: 5 p.m. ET 5/13/22.

Docket Numbers: ER22-1680-000.

Applicants: PJM Interconnection, L.L.C.

Description: Tariff Amendment: Notice of Termination of First Revised SA No. 3226—PJM and VEPCO dba Dominion to be effective 4/12/2022.

Filed Date: 4/22/22.

Accession Number: 20220422-5272.

Comment Date: 5 p.m. ET 5/13/22.

Docket Numbers: ER22-1681-000.

Applicants: Southwest Power Pool, Inc.

Description: § 205(d) Rate Filing: 3938 AEP Renewables Development Surplus Interconnection GIA to be effective 6/25/2022.

Filed Date: 4/25/22.

Accession Number: 20220425-5089.

Comment Date: 5 p.m. ET 5/16/22.

Docket Numbers: ER22-1682-000.

Applicants: PJM Interconnection, L.L.C.

Description: § 205(d) Rate Filing: Original ISA, Service Agreement No. 6421; Queue No. AE1-155 to be effective 3/25/2022.

Filed Date: 4/25/22.

Accession Number: 20220425-5121.

Comment Date: 5 p.m. ET 5/16/22.

Docket Numbers: ER22-1683-000.

Applicants: Southwest Power Pool, Inc.

Description: § 205(d) Rate Filing: 2482R3 Evergy Metro & Evergy KS Central Interconnection Agreement to be effective 5/1/2022.

Filed Date: 4/25/22.

Accession Number: 20220425-5187.

Comment Date: 5 p.m. ET 5/16/22.

Docket Numbers: ER22-1684-000.

Applicants: American Electric Power Service Corporation, Appalachian Power Company, Indiana Michigan Power Company, Kentucky Power Company, Kingsport Power Company, Ohio Power Company, Wheeling Power Company, AEP Appalachian Transmission Company, Inc., AEP Indiana Michigan Transmission Company, Inc., AEP Kentucky Transmission Company, Inc., AEP Ohio Transmission Company, Inc., AEP West Virginia Transmission Company, Inc., PJM Interconnection, L.L.C.

Description: Compliance filing: American Electric Power Service Corporation submits tariff filing per 35: AEP East Operating and Transmission Companies Order 864 Compliance Filing to be effective 1/27/2020.

Filed Date: 4/25/22.

Accession Number: 20220425-5316.

Comment Date: 5 p.m. ET 5/16/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2022.
Debbie-Anne A. Reese,
Deputy Secretary.

[FR Doc. 2022-09283 Filed 4-28-22; 8:45 am]

BILLING CODE 6717-01-P